DEPARTMENT OF THE INTERIOR

Bureau of Ocean Energy Management

[Docket No. BOEM-2022-0034]

Notice of Intent To Prepare a Programmatic Environmental Impact Statement for Future Wind Energy Development in the New York Bight; Extension of Comment Period

AGENCY: Bureau of Ocean Energy Management (BOEM), Interior.

ACTION: Notice of intent (NOI) to prepare a programmatic environmental impact statement (PEIS); extension of comment period.

SUMMARY: On July 15, 2022, BOEM published a notice of intent (NOI) in the Federal Register announcing the initiation of public scoping for a PEIS for future wind energy development in the New York Bight (NY Bight). The PEIS will analyze the potential impacts of wind energy development activities in the NY Bight, as well as the change in those impacts that could result from adopting programmatic avoidance, minimization, mitigation, and monitoring measures for the NY Bight. BOEM is extending the public scoping period. This notice announces a 15-day extension of the public scoping period from August 15, 2022, to August 30, 2022.

DATES: Comments must be received no later than August 30, 2022.

ADDRESSES: Written comments can be submitted in any of the following ways:

• Delivered by mail or delivery service, enclosed in an envelope labeled, “NY BIGHT PEIS” and addressed to Chief, Division of Environmental Assessment, Office of Environmental Programs, Bureau of Ocean Energy Management, 45600 Woodland Road VAM-OEP, Sterling, Virginia 20166; or

• Through the regulations.gov web portal: Navigate to www.regulations.gov and search for Docket No. BOEM-2022-0034. Select the document in the search results on which you want to comment, click on the “Comment” button, and follow the online instructions for submitting your comment. A commenter's checklist is available on the comment web page. Enter your information and comment, then click “Submit.”

FOR FURTHER INFORMATION CONTACT: Jill Lewandowski, BOEM Office of Environmental Programs, 45600 Woodland Road, Sterling, Virginia 20166, telephone (703) 787-1703, or email boemnybightpeis@boem.gov.

SUPPLEMENTARY INFORMATION: Comments already submitted in response to the July 15, 2022, NOI do not need to be resubmitted. Please refer to the NOI published in the Federal Register (87 FR 42495) on July 15, 2022, for further information, including further instructions on how to submit comments.

Authority: 42 U.S.C. 4231 et seq. (NEPA, as amended) and 40 CFR 1506.6.

William Y. Brown,
Chief Environmental Officer, Bureau of Ocean Energy Management.

[FR Doc. 2022-16958 Filed 8-10-22; 8:45 am]

BILLING CODE 4310-MR-P